DEPARTMENT OF ENERGY

Federal Energy Regulatory Commission

[Project No. 1904-078; 1855-050; 1892-030]

Great River Hydro, LLC; Notice of Availability of the Final Environmental Impact Statement for the Vernon, Bellows Falls, and Wilder Hydroelectric Projects

In accordance with the National Environmental Policy Act of 1969 ¹ and the Federal Energy Regulatory Commission's (Commission) regulations, 18 CFR part 380, the Office of Energy Projects has reviewed the applications for relicense for the Vernon Hydroelectric Project (Vernon Project) (FERC No. 1904), Bellows Falls Hydroelectric Project (Bellows Falls Project) (FERC No. 1855), and Wilder Hydroelectric Project (Wilder Project) (FERC No. 1892) and has prepared a final environmental impact statement (EIS) for the projects. The projects are located on the Connecticut River in Windsor, Windham, and Orange counties, Vermont, and Sullivan, Cheshire, and Grafton counties, New Hampshire.

¹ National Environmental Policy Act of 1969, amended (Pub. L. 91-190. 42 U.S.C. 4321-4347, as amended by Pub. L. 94-52, July 3, 1975, Pub. L. 94-83, August 9, 1975, Pub. L. 97-258, 4(b), September 13, 1982, Pub. L. 118-5, June 3, 2023).

The final EIS contains staff's analysis of the applicants' proposals and the alternatives for relicensing the Vernon, Bellows Falls, and Wilder projects. The final EIS documents the views of governmental agencies, non-governmental organizations, affected Native-American tribes, the public, the license applicant, and Commission staff.

The Commission provides all interested persons with an opportunity to view and/or print the final EIS via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

For public inquiries and assistance with making filings such as interventions, comments, or requests for rehearing, contact the Office of Public Participation at (202) 502-6595 or OPP@ferc.gov.

For further information, contact Steve Kartalia at (202) 502-6131, or stephen.kartalia@ferc.gov.

(Authority: 18 CFR 2.1)

Dated: January 30, 2026.
Debbie-Anne A. Reese,
Secretary.

[FR Doc. 2026-02422 Filed 2-5-26; 8:45 am]

BILLING CODE 6717-01-P